DEPARTMENT OF LABOR

Employment Standards Administration

Proposed Revision of the Approval of Information Collection Requirements

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposal to extend OMB approval of the information collection issued OMB Control Number 1215-0032 (Application for Authority to Employ Full-Time Students at Subminimum Wages in Retail/Service Establishments or Agriculture) and to combine it with the information collection controlled under number 1215-0080 (Application for Authority for an Institution of Higher Education to Employ Its Full-Time Students at Subminimum Wages Under Regulations 29 CFR Part 519). The title of the revised information collection will be: Applications to Employ Full-time Students at Subminimum Wages in Retail or Service Establishments, Agriculture, and Institutions of Higher Education (WH-200, WH-201, WH-202). A copy of the revised information collection request can be obtained by contacting the office listed below in the addresses section of this Notice.

DATES: Written comments must be submitted to the office listed in the addresses section below on or before July 28, 2008.

ADDRESSES: Ms. Hazel Bell, U.S. Department of Labor, 200 Constitution Ave., NW., Room S-3201, Washington, DC 20210, telephone (202) 693-0419, fax (202) 693-1451, E-mail bell.hazel@dol.gov. Please use only one method of transmission for comments (mail, fax, or E-mail).

SUPPLEMENTARY INFORMATION I. Background: Fair Labor Standards Act (FLSA) sections 14(b)(1)-(3), 29 U.S.C. 214(b)(1)-(3), require the Secretary of Labor, to the extent necessary to prevent curtailment of opportunities for employment, to provide certificates authorizing the employment of full-time students at not less than 85 percent of the applicable minimum wage or less than $1.60, whichever is higher, in (1) retail or service establishments and agriculture (See 29 CFR 519.1(a)); and (2) institutions of higher education (See 29 CFR 519.11(a)). These provisions set limits on such employment as well as prescribe safeguards to protect the full-time students so employed and the full-time employment opportunities of other workers. See 29 CFR 519.1(b), 519.11(b). Forms WH-200, WH-201, and WH-202 are voluntary-use application forms an authorized representative of an employer may prepare and sign to request a certificate authorizing the employment of full-time students at subminimum wages. Form WH-200 requests authority to employ more than six full-time students at subminimum wages at a named establishment in a monthly amount not exceeding (1) 10 percent of the total monthly hours worked by all employees of that establishment or (2) specific percentages, based on historic employment data, of total employee hours. Form WH-202 requests authority to employ up to six full-time students at subminimum wages throughout the employer's enterprise on any given day. Form WH-201 requests authority for an institution of higher education to pay subminimum wages to its full-time students employed by the institution. The reverse side of Form WH-201 also serves as a Notice of Temporary Authority the institution of higher education may post that provides temporary authority allowing it to employ full-time students at subminimum wages for 30 days after forwarding the properly completed application to the Wage and Hour Division (WHD). The authority under Form WH-201 remains in effect for one year-unless the WHD denies the application within 30 days, issues a certificate with modified terms or conditions, or expressly extends the 30-day review period. The 1215-0032 information collection is currently approved for use through November 30, 2008, and the 1215-0080 information collection is currently approved for use through December 31, 2008.

II. Review Focus: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions: The Department of Labor seeks approval for the revision of this currently approved information collection in order to determine whether to grant or deny subminimum wage authority to the applicant(s); to allow employers to request a certificate authorizing payment of subminimum wages to full-time students and thereby increase job opportunities for such students, if approved.

Type of Review: Revision.

Agency: Employment Standards Administration.

Title: Applications to Employ Full-time Students at Subminimum Wages in Retail or Service Establishments, Agriculture, and Institutions of Higher Education.

OMB Number: 1215-0032.

Agency Numbers: WH-200, WH-201, WH-202.

Affected Public: Business or other for-profit, Farms, Not-for-profit institutions.

Total Respondents: 389.

Total Annual Responses: 389.

Estimated Time per Response: 15 minutes.

Estimated Total Burden Hours: 97.

Frequency: On occasion.

Total Burden Cost (capital/startup): $0.

Total Burden Cost (operating/maintenance): $171.16.

Comments submitted in response to this notice will be summarized and/or included in the request for Office of Management and Budget approval of the information collection request; they will also become a matter of public record.

Dated: May 22, 2008.
Hazel Bell,
Acting Chief, Branch of Management Review and Internal Control, Division of Financial Management, Office of Management, Administration and Planning, Employment Standards Administration.

[FR Doc. E8-11911 Filed 5-28-08; 8:45 am]

BILLING CODE 4510-27-P